DEPARTMENT OF HOMELAND SECURITY

Coast Guard

[Docket No. USCG-2012-0424]

Great Lakes Pilotage Advisory Committee; Vacancies

AGENCY: Coast Guard, DHS.

ACTION: Request for applicants.

SUMMARY: The Coast Guard seeks applications for membership on the Great Lakes Pilotage Advisory Committee (GLPAC). The GLPAC provides advice and makes recommendations to the Secretary of Homeland Security and the Coast Guard on matters relating to Great Lakes pilotage, including review of proposed Great Lakes pilotage regulations and policies.

DATES: Applicants should submit a cover letter and resume in time to reach David Dean, the Alternate Designated Federal Officer (ADFO) on or before July 1, 2012.

ADDRESSES: If you wish to apply for membership, your resume should be submitted by one of the following methods:

• E-mail: David.J.Dean@uscg.mil.

• Fax: (202) 372-1909 Attn: Mr. David Dean, GLPAC ADFO.

• Mail: Mr. David Dean, GLPAC ADFO, Commandant (CG-WWM-2), U.S. Coast Guard Headquarters, 2100 Second Street SW., Stop 7580, Washington, DC 20593-7580.

FOR FURTHER INFORMATION CONTACT: Mr. David Dean, GLPAC ADFO, Commandant (CG-WWM-2), U.S. Coast Guard Headquarters, 2100 Second Street SW., Stop 7580, Washington, DC 20593-7580; telephone 202-372-1533, fax 202-372-1909, or email at David.J.Dean@uscg.mil.

SUPPLEMENTARY INFORMATION: The GLPAC is an advisory committee established in accordance with the provisions of the Federal Advisory Committee Act (FACA) 5 U.S.C. (Pub. L. 92-463) and under the authority of 46 U.S.C. 9307, as amended. GLPAC expects to meet twice per year but may also meet at other times at the call of the Secretary. Further information about GLPAC is available by searching on “Great Lakes Pilotage Advisory Committee” at http://www.faca.gov.

The Committee consists of seven members appointed by and serving at the pleasure of the Secretary of Homeland Security upon recommendation by the Coast Guard Commandant. To be eligible, applicants should have particular expertise, knowledge, and experience regarding the regulations and policies on the pilotage of vessels on the Great Lakes, and at least 5 years of practical experience in maritime operations, except as noted for the Special Government Employee position.

We will consider applicants for two positions that expire or become vacant on September 30, 2012.

• One member representing the interests of vessel operators that contract for Great Lakes pilotage services. This appointment will be as a representative member.

• One member with a background in finance or accounting, who must be recommended to the Secretary by a unanimous vote of the other members of the Committee and may be appointed without regard to the requirement that each member have five years of practical experience in maritime operations. This appointment will be as a Special Government Employee as defined in section 202(a) of Title 18 United States Code. As candidates for appointment as SGEs, applicants are required to complete Confidential Financial Disclosure Reports (OGE Form 450). Coast Guard may not release the reports or the information in them to the public except under an order issued by a Federal court or as otherwise provided under the Privacy Act (5 U.S.C. 552a). Applicants can obtain this form by going to the Web site of the Office of Government Ethics (www.oge.gov), or by contacting the individual listed above. Applications which are not accompanied by a completed OGE Form 450 will not be considered.

Members shall serve terms of office of up to three years and may be reappointed. All members serve at their own expense but may receive reimbursement for travel and per diem from the Federal Government.

Registered lobbyists are not eligible to serve on federal advisory committees. Registered lobbyists are lobbyists required to comply with provisions contained in the Lobbying Disclosure Act of 1995 (Pub. L. 110-81, as amended).

The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions.

To visit our online docket, go to http://www.regulations.gov enter the docket number for this notice (USCG-2012-0424) in the Search box, and click “Go”. Please do not post your resume on this site. During the vetting process, applicants may be asked to provide date of birth and social security number.

Dated: May 23, 2012.
D.A. Goward,
Director Marine Transportation Systems, U.S. Coast Guard.

[FR Doc. 2012-13517 Filed 6-4-12; 8:45 am]

BILLING CODE 9110-04-P